DEPARTMENT OF HOUSING AND URBAN DEVELOPMENT

[Docket No. FR-5545-D-04]

Redelegation of Authority to Regional Public Housing Directors

AGENCY: Office of the Assistant Secretary for Public and Indian Housing, HUD.

ACTION: Notice of redelegation of authority.

SUMMARY: Section 7(d) of the Department of Housing and Urban Development Act, as amended, authorizes the Secretary to delegate functions, powers, and duties as the Secretary deems necessary. By separate notice published in today's Federal Register, the Secretary delegates to the Assistant Secretary for Public and Indian Housing and the General Deputy Assistant Secretary for Public and Indian Housing authority for the administration of certain Public and Indian Housing (PIH) programs, and authorizes the Assistant Secretary to further redelegate such authority. In this Redelegation of Authority for Public and Indian Housing (PIH), the Assistant Secretary for PIH redelegates authority through the PIH General Deputy Assistant Secretary to the Regional Public Housing Directors for the administration of certain PIH programs. This notice also supersedes all prior redelegations of authority to the Regional Public Housing Directors.

DATES: Effective Date: July 15, 2011.

FOR FURTHER INFORMATION CONTACT: Linda Bronsdon, AICP, Program Analyst, Office of Policy, Program and Legislative Initiatives, Office of Public and Indian Housing, Department of Housing and Urban Development, 490 L'Enfant Plaza, Suite 2206, Washington, DC 20024, e-mail address Linda.K.Bronsdon@hud.gov, telephone number 202-402-3494. (This is not a toll-free number.) This number may be accessed through TTY by calling the toll-free Federal Relay Service at telephone number 1-800-877-8339.

SUPPLEMENTARY INFORMATION: By separate notice published in today's Federal Register, the Secretary delegates to the Assistant Secretary for PIH and the General Deputy Assistant Secretary for PIH authority for the administration of certain PIH programs, and authorizes the Assistant Secretary to further redelegate such authority. In this consolidated redelegation of authority, the Assistant Secretary for PIH redelegates authority through the General Deputy Assistant Secretary for PIH, to the Regional Public Housing Directors for the administration of certain PIH programs. All previous redelegations of authority to the Regional Public Housing Directors, including the “Redelegation of Authority Regarding Local Public Housing Program Center Coordinators” (70 FR 1454, published January 7, 2005 with an effective date of December 23, 2004), are hereby revoked and superseded by this redelegation of authority. This consolidated redelegation of authority implements, in part, the Department's Strategic Plan to transform the way HUD does business.

Section A. Authority Redelegated

Authority is hereby redelegated by the Assistant Secretary, through the Deputy Assistant Secretary for PIH, to Regional Public Housing Directors for administration of the following:

1. Programs under the jurisdiction of the Secretary of HUD that are carried out pursuant to the authority transferred from the Public Housing Administration under section 5(a) of the HUD Act (42 U.S.C 3534) as amended;

2. Programs authorized pursuant to the United States Housing Act of 1937 (1937 Act) (42 U.S.C. 1437 et seq.) as amended, including but not limited to the Public Housing Program, Section 8 Programs (except the following Section 8 Project-Based programs: New Construction, Substantial Rehabilitation, Loan Management Set-Aside and Property Disposition); and predecessor programs that are no longer funded but have ongoing commitments;

3. PIH programs for which assistance is provided for or on behalf of public housing agencies (PHAs), public housing residents or other low-income households; and

4. Except as noted in section C, all powers and authorities of the Deputy Assistant Secretary of the Office of Field Operations necessary to carry out Public and Indian Housing Programs and matters.

Section B. Program Specific Functions

In addition to the general redelegations listed in section A, specific authority is hereby redelegated to Regional Public Housing Directors for administration of the following:

1. Annual Contributions Contract (ACCs) amendments for annual grants under the Capital Fund program, but excluding the waiver of ACC provisions;

2. Execution of ACC amendments or releases of Declarations of Trust (DOTs) for Capital Fund Financing or mixed finance transactions when requested pursuant to an approval letter by the Deputy Assistant Secretary for the Office of Public Housing Investments.

3. Release of DOTs pursuant to a section 18 approval;

4. Coordination with the respective program office to address specific programs including Family Self Sufficiency (FSS), Resident Opportunities and Supportive Services (ROSS), Family Unification, HOPE for Elderly Independence and Service Coordinators, HUD-Veterans Administration Supportive Housing, and Moving to Opportunity and Moving to Work;

5. Concurrent approval authority for energy performance contracts (EPC) (EPCs may be approved in the Field Offices or in Headquarters);

6. Actions associated with the renewal of designated housing plans;

7. Execution of letters of support and correspondence with local congressional offices for programs, projects and ventures within the appropriate region;

8. Approval of requests by PHAs to change their fiscal year end (FYE) dates subject to coordination with the Real Estate Assessment Center for PHAs with public housing units and with the Financial Management Division of the Housing Choice Vouchers program for vouchers-only PHAs;

9. Coordination of audit responses through PIH's Audit Liaison Officer on reports by the U.S. General Accounting Office and through PIH's Action Official (AO) for reports by HUD's Office of Inspector General; and

10. Approval of grant extensions under the Public Housing Family Self-Sufficiency (PH-FSS) and Resident Opportunities Self Sufficiency (ROSS) programs. Such grant extensions may be made at the field level for any length of time deemed reasonable by the Public Housing Director or designee; denials of FSS and ROSS extensions remain with the Deputy Assistant Secretary of the Office of Public Housing Investments.

Section C. Excepted Authority That Remains With the Secretary or Assistant Secretary

The redelegation of authority does not include any power or authority under law that specifically requires the action of either the Secretary of HUD, the Assistant Secretary of PIH, or the General Deputy Assistant Secretary for PIH. Such excepted authority includes, but is not limited to authority to:

1. Issue or waive regulations, including waivers pursuant to 24 CFR 982.161(c) which permits HUD field offices to act on waivers of conflict of interests. Regional Public Housing Directors and Public Housing Field Office Directors are to not exercise this authority;

2. Issue notices to clarify regulations;

3. Issue notices of funding availability (NOFAs), handbooks, notices and other HUD policy directives;

4. Waive any provision of an ACC including a determination of substantial breach or default; taking possession or title of property from a PHA; and declaring breach or default in response to any violation of statute or regulations.

Section D. Excepted Authority That Remains With Deputy Assistant Secretaries

The redelegation of authority does not include any power or authority under law that specifically requires the action of a PIH Deputy Assistant Secretary. This excepted authority includes, but is not limited to authority to:

1. Offer new legislative proposals to Congress;

2. Allocate or reallocate funding amongst field offices;

3. Approve remedies for noncompliance requiring notice and opportunity for administrative hearing;

4. Waive provisions or instructions of PIH directives relating to the obligation or payment of operating subsidies;

5. Solicit competitive proposals for the management of all or part of public housing administered by a PHA;

6. Approve special rent adjustments;

7. Conduct tax credit and/or subsidy layering reviews;

8. Approve PHA requests for exception payment standards that exceed 120 percent of the fair market rent (FMR); and

9. Approve grant extensions, unless specifically or otherwise noted. Approval of grant extensions under FSS and ROSS may be extended by Public Housing Directors. Extensions may be made by Regional Public Housing Directors for any length of time deemed reasonable; denials of FSS and ROSS extensions remain with the Deputy Assistant Secretary of the Office of Public Housing Investments.

Section E. Authority To Further Redelegate

The authority not excepted herein may be further redelegated, as appropriate, by Regional Public Housing Directors to Public Housing Hub Directors, Program Center Coordinators and other ranking program officials on site or out-stationed in accordance with a written redelegation of authority. Such subsequent redelegations may follow the format presented herein or may be a memorandum stating that specific authority is hereby designated. Time limits for such any further redelegated authority may be added.

Section F. Actions Ratified

The Deputy Assistant Secretaries hereby ratify all actions, including limited denials of participation, but not including actions that violate the 1937 Act, federal regulations or ACC provisions, previously taken by Regional Public Housing Directors, PIH Hub Directors, Deputy Directors, Program Center Coordinators, Division Directors of Public Housing in HUD Field Offices, under prior redelegations, including those noted below, through the effective date of this redelegation:

1. Federal Register Docket Number 4837-D-32 “Notice of Revocation and Redelegation of Authority for Indian and Alaska Native Programs”, (68 FR 53197, published September 9, 2003 with an effective date of July 18, 2003) revoked prior redelegations to the Deputy Director for Headquarter Operations and the Deputy for Field Operations;

2. Federal Register Docket Number 4837-D-56 “Redelegation of Authority Regarding Local Public Housing Program Center Coordinators”, (70 FR 1454, published January 7, 2005 with an effective date of December 23, 2004) redelegated approval authority from the Assistant Secretary for PIH for renewals of designated housing plans pursuant to section 7 of the United States Housing Act of 1937. Approval of new designated housing plans was not redelegated.

3. Federal Register Docket Number 5076-D-13 “Delegation of Authority to the Deputy Assistant Secretary for the Office of Public Housing Investments”, (71 Federal Register 70783, published December 6, 2006 with an effective date of November 28, 2006) redelegated authority from the Assistant Secretary to Public Housing Field Office Directors to execute amendments to the ACC associated with proposals submitted by PHAs pursuant to section 30, which have been approved by either the Assistant Secretary, General Deputy Assistant Secretary, or the Deputy Assistant Secretary of OPHI.

Section G. Authority Superseded

All previous redelegations of authority to the Regional Public Housing Directors are hereby revoked and superseded, including the “Redelegation of Authority Regarding Local Public Housing Program Center Coordinators”, published on January 7, 2005 (70 FR 1454).

Section H. Consultation and Coordination With the General Counsel

The General Counsel shall consult and advise the Assistant Secretary for PIH, the General Deputy Assistant Secretary, Deputy Assistant Secretaries, Regional Public Housing Directors and all others covered by this redelegation, as required and when requested and shall enter into such protocols as administratively agreed to by the General Counsel and the Assistant Secretary for PIH or the General Deputy Assistant Secretary. This consolidated delegation of authority is to be exercised consistently with the delegation from the Secretary to the General Counsel.

Authority: Section 7 (d) of the Department of Housing and Urban Development Act, as amended, (42 U.S.C. 3535(d)).

Dated: July 15, 2011.
Sandra B. Henriquez,
Assistant Secretary for Public and Indian Housing.

[FR Doc. 2011-19729 Filed 8-3-11; 8:45 am]

BILLING CODE 4210-67-P